DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project, Del Rio Trail Project in the City of Sacramento, Sacramento County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 23, 2020. If the Federal law that authorizes judicial review of a claim provides a time period of less than 150 days for filing such claim, then that shorter time period still applies.

FOR FURTHER INFORMATION CONTACT: For Caltrans: Laura Loeffler, Branch Chief, Caltrans Office of Environmental Management, M-1 California Department of Transportation—District 3, 703 B Street, Marysville, CA 95901. Office hours: 8:00 a.m.-5:00 p.m., Pacific Standards time, telephone (530) 741-4592 or email laura.loeffler@dot.ca.gov. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that the Caltrans has taken final agency actions subject to 23 U.S.C. 139(l)(1) by issuing licenses, permits, and approvals for the following highway project in the State of California: Caltrans, in conjunction with the City of Sacramento, propose to construct 4.8 miles of Class I multi-use trail along the abandoned railway corridor west of Freeport Boulevard from south of Meadowview Road/Pocket Road to the Sacramento River Parkway north of Sutterville Road. The proposed project consists of a Class I multi-use trail (12 feet wide with 2-foot shoulders). The trail would include at-grade crossings and intersection modifications at each major arterial location. The project begins approximately 0.4 miles south of Pocket Road near the Freeport Water Tower adjacent to the I-5 bridge over Freeport Boulevard, and extends 4.8 miles north along the abandoned railway corridor within the City of Sacramento. The actions by the Federal agencies, and the laws under which such actions were taken, are described in the Final Categorical Exclusion, approved on October 25, 2019, and in other documents in the FHWA project records. The Categorical Exclusion and other project records are available by contacting Caltrans at the addresses provided above.

This notice applies to all Federal agency decisions as of the issuance date of this notice and all laws under which such actions were taken, including but not limited to:

1. Council on Environmental Quality Regulations (40 CFR 1500 et seq., 23 CFR 771);

2. National Environmental Policy Act of 1969, as amended, 42 U.S.C. 4321 et seq.;

3. Federal-Aid Highway Act of 1970, (23 U.S.C § 109, as amended by FAST Act Section 1404(a), Pub. L. 114-94, and 23 U.S.C. 128);

4. MAP-21, the Moving Ahead for Progress in the 21st Century Act (Pub. L. 112-141);

5. Clean Air Act, as amended (42 U.S.C. 7401 et seq. (Transportation Conformity), 40 CFR part 93);

6. Clear Water Act of 1977 and 1987, (33 U.S.C. 1251 et seq.);

7. Federal Water Pollution Control Act of 1972 (see Clean Water Act of 1977 & 1987);

8. Federal Land Policy and Management Act of 1976, Public Law 94-579;

9. Noise Control Act of 1972;

10. Safe Drinking Water Act of 1944, as amended;

11. Endangered Species Act of 1973;

12. Executive Order 11990, Protection of Wetlands Executive Order 13112, Invasive Species;

13. Executive Order 13186, Migratory Birds;

14. Fish and Wildlife Coordination Act of 1934, as amended;

15. Wildflowers, Surface Transportation and Uniform Relocation Act of 1987, Section 130;

16. Executive Order 11988, Floodplain Management;

17. Department of Transportation (DOT) Executive Order 5650.2—Floodplain Management and Protection (April 23,1979);

18. Rivers and Harbors Appropriation Act of 1899, Sections 9 and 10;

19. Title VI of the Civil Rights Act of 1964, as amended;

20. Executive Order 12898, Federal Actions to Address Environmental 18. Executive Order 13112, Invasive Species;

21. Department of Transportation Act of 1966, Section 4(f) (49 U.S.C. 303 and 23 U.S.C. 138);

22. National Historic Preservation Act of 1966, as amended (54 U.S.C. 306108 et seq.);

23. Migratory Bird Treaty Act;

24. Executive Order 13112, Invasive Species.

(Catalog of Federal Domestic Assistance Program Number 20.205, Highway Planning and Construction. The regulations implementing Executive Order 12372 regarding intergovernmental consultation on Federal programs and activities apply to this program.)

Authority: 23 U.S.C. 139(l)(1)

Issued on: November 19, 2019.
Tashia J. Clemons,
Director, Planning and Environment, Federal Highway Administration, California Division.

[FR Doc. 2019-25541 Filed 11-22-19; 8:45 am]

BILLING CODE 4910-RY-P